DEPARTMENT OF STATE

[Public Notice 5576]

Meetings of the United States-Chile Environment Affairs Council and the United States-Chile Joint Commission for Environmental Cooperation

ACTION: Notice and request for comments.

SUMMARY: The Department of State and the Office of the United States Trade Representative (USTR) are providing notice that, as set forth in Chapter 19 (Environment) of the United States-Chile Free Trade Agreement (FTA), the United States and Chile intend to hold the third meeting of the Environment Affairs Council (the “Council”) and the second meeting of the United States-Chile Joint Commission for Environmental Cooperation (the “Commission”) in Santiago, Chile on October 23-24, 2006. A public information session will be held for members of the public on October 23, at 3:30 p.m., in the Ministry of Foreign Relations, Teatinos 180, Conference Room, 17th floor. The purpose of the Council and Commission meetings is detailed below under SUPPLEMENTARY INFORMATION.

The meeting agendas will include an evaluation of the eight cooperative projects outlined in the FTA's Environment Chapter and the 2005-2006 Work Program and a proposed 2007-2008 Work Program pursuant to the United States-Chile Environmental Cooperation Agreement (“the ECA”). The Department of State and USTR invite interested agencies, organizations, and members of the public to submit written comments or suggestions regarding agenda items.

In preparing comments, we encourage submitters to refer to:

• The FTA's Environment Chapter including Annex 19.3, and the Final Environment Review of the FTA, available at: http://www.ustr.gov/Trade_Agreements/Bilateral/Chile_FTA/Section_Index.html.

• The ECA, available at: http://www.state.gov/g/oes/env/tr/.

• Joint Declaration and Project Reports from the 2005 Council meeting at: http://www.state.gov/g/oes/env/tr/2005/index.htm.

DATES: To be assured of timely consideration, comments are requested no later than October 20, 2006.

ADDRESSES: Written comments or suggestions should be submitted to both:

(1) Lawrence Sperling, U.S. Department of State, Bureau of Oceans, Environment, and Science, Office of Policy Coordination Initiatives by electronic mail at SperlingLI@state.gov with the subject line “US-Chile EAC and JCEC Meetings” or by fax to (202) 647-5947 or (202) 647-1052; and (2) Mara M. Burr, Deputy Assistant United States Trade Representative for Environment and Natural Resources, Office of the United States Trade Representative by electronic mail at mburr@ustr.eop.gov with the subject line “US-Chile EAC and JCEC Meetings” or by fax to or (202) 395-6865.

FOR FURTHER INFORMATION CONTACT: Lawrence Sperling, Telephone (202) 647-2061 or Mara M. Burr, Telephone (202) 395-7320.

SUPPLEMENTARY INFORMATION: The United States-Chile Free Trade Agreement (FTA) entered into force on January 4, 2004. Article 3 of Chapter 19 (Environment) of the FTA establishes an Environment Affairs Council (the “Council”), which is required to meet at least once a year to discuss the implementation of, and progress under, Chapter 19. Chapter 19 requires that meetings of the Council include a public session, unless otherwise agreed by the two governments. Under Chapter 19, the two governments agreed to undertake eight specific cooperative activities set out in Annex 19.3 of the Chapter and to negotiate a United States-Chile Environmental Cooperation Agreement to further environmental cooperative activities. The United States-Chile Environmental Cooperation Agreement (the “ECA”) entered into force on May 1, 2004 and sets out a framework for environmental cooperative activities between the two governments. Article II of the ECA establishes the United States-Chile Joint Commission for Environmental Cooperation (the “Commission”), with responsibilities that include developing and periodically reviewing a Work Program. The Commission is required to meet at least every two years. The first meetings of the Council and the Commission were held on July 22, 2004, in Santiago, Chile, and the second meeting of the Council was held on October 24, 2005, in Washington, DC. Issues of mutual concern related to Chapter 19 of the FTA and progress reports on the eight cooperation projects under Chapter 19 were discussed at the second meeting of the Council. At the upcoming third meeting of the Council and second meeting of the Commission, the Council and Commission will consider implementation of the Chapter, including with respect to public participation, input from advisory committees, review of cooperative projects, the 2005-2006 ECA Work Program, and a proposed 2007-2008 ECA Work Program. At these meetings, the Council and Commission will also consider recommendations for future bilateral environmental cooperation.

The public is advised to refer to the State Department Web site at http://www.state.gov/g/oes/env/ for further information related to the Council and Commission meetings.

Dated: October 6, 2006.
David E. Brown,
Director, Office of Environmental Policy, Department of State.

[FR Doc. 06-8662 Filed 10-11-06; 8:45 am]

BILLING CODE 4710-09-M